DEPARTMENT OF STATE

[Public Notice 3751]

Office of Overseas Schools; 60-Day Notice of Proposed Information Collection: Form DS-2061, Approval of Funding to Support Special Educational Programs (OMB #1405-0031)

ACTION: Notice.

SUMMARY: The Department of State is seeking Office of Management and Budget (OMB) approval for the information collection described below. The purpose of this notice is to allow 60 days for public comment in the Federal Register preceding submission to OMB. This process is conducted in accordance with the Paperwork Reduction Act of 1995.

The following summarizes the information collection proposal to be submitted to OMB:

Type of Request: Reinstatement.

Originating Office: Bureau of Administration, A/OPR/OS.

Title of Information Collection: Approval of Funding to Support Special Educational Programs.

Frequency: Annual.

Form Number: DS-2061 (Formerly JF-45).

Estimated Number of Respondents: 89.

Average Hours Per Response: 30 minutes.

Total Estimated Burden: 44.5 hours.

Public comments are being solicited to permit the agency to:

• Evaluate whether the proposed information collection is necessary for the proper performance of the functions of the agency.

• Evaluate the accuracy of the agency's estimate of the burden of the proposed collection, including the validity of the methodology and assumptions used.

• Enhance the quality, utility, and clarity of the information to be collected.

• Minimize the reporting burden on those who are to respond, including through the use of automated collection techniques or other forms of technology.

FOR FURTHER INFORMATION CONTACT: Public comments, or requests for additional information, regarding the collection listed in this notice should be directed to Keith D. Miller, Office of Overseas Schools, U.S. Department of State, Washington, DC 20520. He may be reached at 202-261-8200.

Dated: May 10, 2002.
Gregory K.O. Davis,
Management Analyst, Bureau of Administration, U.S. Department of State.

[FR Doc. 02-12441 Filed 5-16-02; 8:45 am]

BILLING CODE 4710-24-P